DEPARTMENT OF DEFENSE

GENERAL SERVICES ADMINISTRATION

NATIONAL AERONAUTICS AND SPACE ADMINISTRATION

48 CFR Parts 1, 4, 22, 23, 26, and 52

[FAC 2005-91; Item XI; Docket No. 2016-0052; Sequence No. 4]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective: September 30, 2016.

FOR FURTHER INFORMATION CONTACT: Ms. Hada Flowers, Regulatory Secretariat Division (MVCB), 1800 F Street NW., 2nd Floor, Washington, DC 20405, 202-501-4755. Please cite FAC 2005-91, Technical Amendments.

SUPPLEMENTARY INFORMATION: In order to update certain elements in 48 CFR parts 1, 4, 22, 23, 26, and 52 this document makes editorial changes to the FAR.

List of Subjects in 48 CFR Parts 1, 4, 22, 23, 26, and 52

Government procurement.

Dated: September 19, 2016.
William F. Clark,
Director, Office of Government-wide Acquisition Policy, Office of Acquisition Policy, Office of Government-wide Policy.

Therefore, DoD, GSA, and NASA amend 48 CFR parts 1, 4, 22, 23, 26, and 52, as set forth below:

1. The authority citation for 48 CFR parts 1, 4, 22, 23, 26, and 52 continues to read as follow:

Authority: 40 U.S.C. 121(c); 10 U.S.C. chapter 137; and 51 U.S.C. 20113.

PART 1—FEDERAL ACQUISITION REGULATIONS SYSTEM

1.603-1 [Amended]

2. Amend section 1.603-1 by removing “41 U.S.C. 1702(b)(3)(F)” and adding “41 U.S.C. 1702(b)(3)(G)” in its place.

PART 4—ADMINISTRATIVE MATTERS

4.1400 [Amended]

3. Amend section 4.1400 by removing “http://usaspending.gov” and adding “https://www.usaspending.gov” in its place.

PART 22—APPLICATION OF LABOR LAWS TO GOVERNMENT ACQUISITIONS

22.805 [Amended]

4. Amend section 22.805 by removing from paragraph (a)(4)(i) http://www.dol-esa.gov/preaward/” and adding “https://ofccp.dol-esa.gov/preaward/pa_reg.html” in its place.

PART 23—ENVIRONMENT, ENERGY AND WATER EFFICIENCY, RENEWABLE ENERGY TECHNOLOGIES, OCCUPATIONAL SAFETY, AND DRUG-FREE WORKPLACE

23.704 [Amended]

5. Amend section 23.704 by removing from paragraphs (b)(1)(iv) and (b)(2) “www.epa.gov/epeat” and adding “https://www.epa.gov/greenerproducts/epas-recommendations-specifications-standards-and-ecolabels” in its place.

PART 26—OTHER SOCIOECONOMIC PROGRAMS

6. Amend section 26.103 by revising paragraph (b) to read as follows:

26.103 Procedures.

* * * * *

(b) In the event of a challenge to the representation of a subcontractor, the contracting officer shall refer the matter to the U.S. Department of the Interior, Bureau of Indian Affairs (BIA), Attn: Acquisition Management Director, 12220 Sunrise Valley Drive, Reston, VA 20191. The BIA will determine the eligibility and notify the contracting officer.

* * * * *

PART 52—SOLICITATION PROVISIONS AND CONTRACT CLAUSES

7. Amend section 52.234-1 by revising the section and clause headings and the definition “Title III project contractor” to read as follows:

52.234-1 Industrial Resources Developed Under Title III, Defense Production Act.

* * * * *

Industrial Resources Developed Under Title III, Defense Production Act (Sep 2016)

* * * * *

(a) Definitions.

* * * * *

Title III project contractor means a contractor that has received assistance for the development or manufacture of an industrial resource under Title III of Defense Production Act (50 U.S.C. App. 2091-2093).

* * * * *

[FR Doc. 2016-23205 Filed 9-29-16; 8:45 am]

BILLING CODE 6820-EP-P